DEPARTMENT OF ENERGY

Federal Energy Regulatory Commission

[Docket No. RP04-378-000]

Gas Technology Institute; Notice of Extension of Time

August 11, 2004.

On July 8, 2004, the Commission issued a Notice of Five-Year Research, Development and Demonstration Plan (Notice) announcing an application for approval of the plan filed on July 1, 2004, by the Gas Technology Institute, in the above-docketed proceeding. On August 9, 2004, Bruce B. Ellsworth (Ellsworth) filed a motion for an extension of time within which to file comments in response to the Commission's notice. In the motion, Ellsworth states that due to the press of other commitments and the time needed to request additional supportive information, an extension of time is needed to prepare and submit a comment.

Upon consideration, notice is hereby given that an extension of time for the filing of comments in response to the Commission's notice is granted to and including August 23, 2004.

Magalie R. Salas,
Secretary.

[FR Doc. E4-1841 Filed 8-18-04; 8:45 am]

BILLING CODE 6717-01-P